DEPARTMENT OF HEALTH AND HUMAN SERVICES

Statement of Organization, Functions and Delegations of Authority; Program Support Center

Part P (Program Support Center) of the Statement of Organization, Functions and Delegations of Authority for the Department of Health and Human Services (60 FR 51480, October 2, 1995 as amended most recently at 64 FR 55731, October 14, 1999) is amended to reflect changes in Chapter PB within Part P, Program Support Center, Department of Health and Human Services. The Program Support Center is reorganizing and realigning the division level structure of the Human Resources Service, specifically those divisions performing information technology (IT) activities. The realignment will include the abolishment of three existing Divisions and the establishment of three new Offices: the Office of Systems Management, the Office of Legacy Systems Oversight, and the Office of Enterprise Human Resource and Payroll Systems.

Program Support Center

Under Part P, Section P-20, Functions, change the following:

Under Chapter PB, Human Resources Service (PB) delete the titles and functional statements for the Systems Design and Analysis Division (PBB); Systems Engineering and Maintenance Division (PBC); and Systems Networking Division (PBH) in their entirety. The functions of these divisions will be realigned within the Office of Legacy Systems Oversight (PBW).

Establish the Office of Systems Management (PBU) and enter the functional statement as follows:

Office of Systems Management (PBU)

(1) Provides leadership in the development and management of the technology environment which supports the HRS human resource information and payroll systems; (2) Develops short- and long-range information technology plans, identifying HRS' goals and objectives, budget requirements, acquisition plans and anticipated future needs; (3) Provides leadership and overall direction for configuration management services including systems designed to reduce errors and support parallel and concurrent development of system; (4) Oversees software acceptance testing, quality assurance and quality control functions for all new systems/subsystems, major enhancements and systems changes for human resource information systems; (5) Provides HRS-wide systems security support including contingency planning, system and network safeguards, and employee awareness; and (6) Provides administrative support to the HRS systems and payroll divisions and offices.

Establish the Office of Enterprise Human Resource and Payroll Systems (PBV) and enter the functional statement as follows:

Office of Enterprise Human Resource and Payroll Systems (PBV)

(1) Provides overall program leadership and direction to enterprise human resource and payroll systems for the Department; (2) Provides oversight in developing and implementing new human resources and payroll systems; (3) Plans, organizes and directs high-priority projects or initiatives which cross-cut HRS business lines; and (4) Represents the Department on Interagency Groups.

Establish the Office of Legacy Systems Oversight (PBW) and enter the functional statement as follows:

Office of Legacy Systems Oversight (PBW)

(1) Provides overall program leadership and direction to the operation of the current legacy personnel and payroll system; (2) Conducts analysis and design of systems changes, enhancements and new requirements; (3) Provides the full range of automated data processing support activities associated with the development and maintenance of the civilian personnel/payroll processing and reporting systems; (4) Provides automation services for the HHS automated personnel and payroll systems and subsystems; (5) Manages the operation of production for the civilian personnel and payroll processing systems; and (6) Provides human resource and human resource systems customer liaison services to resolve issues and improve customer services.

Under the heading Personnel and Pay Systems Division (PBG) rename the Personnel and Pay Systems Division (PBG) the Division of Payroll (PBG); delete “and the Social Security Administration's” under item (1); delete item (2) in its entirety and renumber the remaining items in sequence.

Dated: September 21, 2000.
Lynnda M. Regan,
Director, Program Support Center.

[FR Doc. 00-25285 Filed 10-2-00; 8:45 am]

BILLING CODE 4168-17-M